DEPARTMENT OF DEFENSE

Office of the Secretary

[Docket ID: DoD-2015-OS-0092]

Submission for OMB Review; Comment Request

ACTION: Notice.

SUMMARY: The Department of Defense has submitted to OMB for clearance, the following proposal for collection of information under the provisions of the Paperwork Reduction Act.

DATES: Consideration will be given to all comments received by October 21, 2015.

FOR FURTHER INFORMATION CONTACT: Fred Licari, 571-372-0493.

SUPPLEMENTARY INFORMATION: Title, Associated Form and Omb Number: Middle East Focus Groups and Survey; OMB Control Number 0704-TBD.

Type of Request: Emergency.

Number of Respondents: 2000.

Responses per Respondent: 1.

Annual Responses: 2000.

Average Burden per Response: 60 minutes.

Annual Burden Hours: 2000 hours.

Needs and Uses: The information collection requirement is being submitted as an emergency. The primary objective of this research, broadly speaking, is to inform future U.S. government efforts in countering violent extremism, with the goal of the project being to better understand views of political activism in the Middle East and, more specifically, to identify factors that dissuade individuals from supporting violent extremist groups. The focus groups and surveys will identify what factors dissuade individuals from supporting violent extremist groups or inhibit support for violence more generally. The information collection will be initiated at a time of relative peace in Yemen, but this country has experienced active conflict since April 2015 so the focus groups and survey must be administered at a time when some stability has returned to the country. Due to the fluid nature in the stability of the country, and the need to move quickly once a window of opportunity opens, the Department is bypassing the 60-day public comment period.

Affected Public: Individuals and Households—Foreign Nationals.

Frequency: One-time.

Respondent's Obligation: Voluntary.

Omb Desk Officer: Ms. Jasmeet Seehra.

Comments and recommendations on the proposed information collection should be emailed to Ms. Jasmeet Seehra, DoD Desk Officer, at Oira_submission@omb.eop.gov. Please identify the proposed information collection by DoD Desk Officer and the Docket ID number and title of the information collection.

You may also submit comments and recommendations, identified by Docket ID number and title, by the following method:

• Federal eRulemaking Portal: http://www.regulations.gov. Follow the instructions for submitting comments.

Instructions: All submissions received must include the agency name, Docket ID number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, 4800 Mark Center Drive, East Tower, Suite 02G09, Alexandria, VA 22350-3100.

Dated: September 16, 2015.
Aaron Siegel,
Alternate OSD Federal Register Liaison Officer, Department of Defense.

[FR Doc. 2015-23613 Filed 9-18-15; 8:45 am]

BILLING CODE 5001-06-P